DEPARTMENT OF AGRICULTURE

Forest Service

Newspapers for Publication of Legal Notices in the Eastern Region

AGENCY: Forest Service, Agriculture (USDA).

ACTION: Notice.

SUMMARY: This notice lists the newspapers that will be used by the Ranger Districts, Forests and Regional Office of the Eastern Region to publish legal notices required under Agency regulations. The intended effect of this action is to inform interested members of the public which newspapers the Forest Service will use to publish notices of proposed actions and notices of decisions. This will provide the public with constructive notice of Forest Service proposals and decisions, provide information on the procedures to comment, object, or appeal, and establish the date that the Forest Service will use to determine if comments, appeals, or objections were timely.

DATES: Publication of legal notices in the listed newspapers begins on the date of this publication. This list of newspapers will remain in effect until a new list is published in the Federal Register.

FOR FURTHER INFORMATION CONTACT: Matthew St. Pierre, Administrative Review Specialist, Eastern Region, 626 E. Wisconsin Avenue, Milwaukee, Wisconsin 53202, by email at matthew.stpierre@usda.gov, or phone at 715-401-1282.

SUPPLEMENTARY INFORMATION: The administrative procedures at 36 CFR 218, and 219 require the Forest Service to publish notices in a newspaper of general circulation. The content of the notices is specified in 36 CFR 218 and 219. In general, the notices will identify: The decision or project by title or subject matter, the name and title of the official making the decision, how to obtain additional information, and where and how to file comments or appeals/objection. The date the notice is published will be used to establish the official date for the beginning of the comment, appeal, or objection period.

Eastern Region

Regional Forester Notices for Comments and Decisions and Objections affecting National Forest System lands in the Eastern Region, in the states of Illinois, Indiana, Ohio, Michigan, Minnesota, Missouri, New Hampshire, Maine, Pennsylvania, Vermont, New York, West Virginia, and Wisconsin: The Milwaukee Journal Sentinel, Milwaukee, Wisconsin.

Pennsylvania

Allegheny National Forest

Allegheny Forest Supervisor Decisions: Warren Times Observer, Warren, Pennsylvania.

District Ranger Decisions for Bradford District: Bradford Era, Bradford, Pennsylvania.

District Ranger Decisions for Marienville District: The Kane Republican, Kane, Pennsylvania.

Wisconsin

Chequamegon-Nicolet National Forest

Chequamegon-Nicolet Forest Supervisor Decisions: The Northwoods River News, Rhinelander, Wisconsin.

District Ranger Decisions for Eagle River-Florence District and Lakewood-Laona District: The Northwoods River News, Rhinelander, Wisconsin.

District Ranger Decisions for Great Divide District and Washburn District: The Ashland Daily Press, Ashland, Wisconsin.

District Ranger Decisions for the Medford-Park Falls District: The Star News, Medford, Wisconsin.

Minnesota

Chippewa National Forest

Chippewa Forest Supervisor Decisions: Bemidji Pioneer, Bemidji, Minnesota.

District Ranger Decisions for the Blackduck District: The American, Blackduck, Minnesota.

District Ranger Decisions for the Deer River District: Grand Rapids Herald-Review, Grand Rapids, Minnesota.

District Ranger Decisions for the Walker District: The Pilot/Independent, Walker, Minnesota.

Superior National Forest

Superior Forest Supervisor Decisions: Duluth News-Tribune, Duluth, Minnesota.

District Ranger Decisions for the Gunflint District: Cook County News-Herald, Grand Marais, Minnesota.

District Ranger Decisions for the Kawishiwi District: Ely Echo, Ely, Minnesota.

District Ranger Decisions for the LaCroix District and Laurentian District: Mesabi Tribune, Virginia, Minnesota.

District Ranger Decisions for the Tofte District: Duluth News-Tribune, Duluth, Minnesota.

Vermont

Green Mountain National Forest

Green Mountain Forest Supervisor Decisions: The Rutland Herald, Rutland, Vermont.

District Ranger Decisions for the Manchester District, Middlebury District and Rochester. District: The Rutland Herald, Rutland, Vermont.

New York

Finger Lakes National Forest

Finger Lakes Forest Supervisor Decisions: The Ithaca Journal, Ithaca, New York.

District Ranger Decisions for the Hector District: The Ithaca Journal, Ithaca, New York.

Michigan

Hiawatha National Forest

Hiawatha Forest Supervisor Decisions: The Daily Press, Escanaba, Michigan.

District Ranger Decisions for the Rapid River District and Manistique District: The Daily Press, Escanaba, Michigan.

District Ranger Decisions for the Munising District: The Mining Journal, Marquette, Michigan.

District Ranger Decisions for the St. Ignace District and Sault Ste. Marie District: The Sault News, Sault Ste. Marie, Michigan.

Huron-Manistee National Forest

Huron-Manistee Forest Supervisor Decisions: Cadillac News, Cadillac, Michigan.

District Ranger Decisions for the Baldwin-White Cloud Districts: Lake County Star, Baldwin, Michigan.

District Ranger Decisions for the Cadillac-Manistee Districts: Manistee News Advocate, Manistee, Michigan.

District Ranger Decisions for the Mio District: Oscoda County Herald, Mio, Michigan.

District Ranger Decisions for the Huron Shores District: Oscoda Press, Oscoda, Michigan.

Ottawa National Forest Ottawa Forest Supervisor Decisions: The Daily Mining Gazette, Houghton, Michigan.

District Ranger Decisions for the Bergland District, Bessemer District, Kenton District.

Ontonagon District, and Watersmeet Districts: The Daily Mining Gazette, Houghton, Michigan.

Indiana

Hoosier National Forest

Hoosier Forest Supervisor Decisions: Times-Mail, Bedford, Indiana.

District Ranger Decisions for the Brownstone District: Times-Mail, Bedford, Indiana.

District Ranger Decisions for the Tell City District: The Perry County News, Tell City, Indiana.

Missouri

Mark Twain National Forest

Mark Twain Forest Supervisor Decisions: The Rolla Daily News, Rolla, Missouri.

District Ranger Decisions for the Ava/Cassville/Willow Springs District: Springfield News-Leader, Springfield, Missouri.

District Ranger Decisions for the Cedar Creek District: Fulton Sun, Fulton, Missouri.

District Ranger Decisions for the Eleven Point District: Prospect News, Doniphan, Missouri.

District Ranger Decisions for the Rolla District and Houston District: Houston Herald, Houston, Missouri.

District Ranger Decisions for the Poplar Bluff District: Daily American Republic, Poplar Bluff, Missouri.

District Ranger Decisions for the Potosi District: The Independent-Journal, Potosi, Missouri.

District Ranger Decisions for the Fredericktown District: The Democrat-News, Fredericktown, Missouri.

District Ranger Decisions for the Salem District: The Salem News, Salem, Missouri.

Illinois

Midewin Tallgrass Prairie

Midewin Prairie Supervisor Decisions: The Herald News, Joliet, Illinois.

Shawnee National Forest

Shawnee Forest Supervisor Decisions: Southern Illinoisan, Carbondale, Illinois.

District Ranger Decisions for the Hidden Springs District and Mississippi Bluffs Districts: Southern Illinoisan, Carbondale, Illinois.

West Virginia

Monongahela National Forest

Monongahela Forest Supervisor Decisions: The Inter-Mountain, Elkins, West Virginia.

District Ranger Decisions for the Cheat-Potomac District: The Grant County Press, Petersburg, West Virginia.

District Ranger Decisions for the Gauley District: The Nicholas Chronicle, Summersville, West Virginia.

District Ranger Decisions for the Greenbrier District and the Marlinton-White Sulphur District: The Pocahontas Times, Marlinton, West Virginia.

Ohio

Wayne National Forest

Wayne Forest Supervisor Decisions: Athens Messenger, Athens, Ohio.

District Ranger Decisions for the Athens District: Athens Messenger, Athens, Ohio.

District Ranger Decisions for the Ironton District: The Ironton Tribune, Ironton, Ohio.

New Hampshire and Maine

White Mountain National Forest

White Mountain Forest Supervisor Decisions affecting National Forest System lands in New Hampshire: The New Hampshire Union Leader, Manchester, New Hampshire.

White Mountain Forest Supervisor Decisions affecting only National Forest System lands in Maine: Lewiston Sun-Journal, Lewiston, Maine.

District Ranger Decisions for the Androscoggin District and Saco District: The New Hampshire Union Leader, published daily in Manchester, New Hampshire.

District Ranger Decisions for the Androscoggin District and Saco District affecting only National Forest System lands in Maine: Lewiston Sun-Journal, Lewiston, Maine.

District Ranger Decisions for the Pemigewasset District: The New Hampshire Union Leader, Manchester, New Hampshire.

Dated: April 7, 2023.
Jacqueline Emanuel,
Associate Deputy Chief, National Forest System.

[FR Doc. 2023-07714 Filed 4-11-23; 8:45 am]

BILLING CODE 3411-15-P